FEDERAL COMMUNICATIONS COMMISSION

47 CFR Part 73

[DA 00-1448; MM Docket No. 99-114; RM-8902]

Television Broadcasting Services, DTV Broadcasting Services; Lake Havasu City, AZ and Laughlin, NV

AGENCY: Federal Communications Commission.

ACTION: Final rule.

SUMMARY: This document reallots NTSC Channel 34+ and paired DTV Channel 32 from Lake Havasu City, Arizona, to Laughlin, Nevada, and modifies the authorization of Mojave Broadcasting Company (formerly Meridian Communications Company) for television Station KMCC, as requested, pursuant to the provisions of Section 1.420(i) of the Commission's Rules. See 64 FR 23036, April 29, 1999. The reallotment will provide a first local television transmission and DTV service to Laughlin. Coordinates used for NTSC Channel 34+ and DTV Channel 32 at Laughlin, Nevada, are 35-03-12 NL and 114-37-10 WL. Additionally, as Laughlin is located within 320 kilometers (199 miles) of the Mexico border, concurrence of the Mexican government to the reallotment request was obtained.

DATES: Effective August 14, 2000.

FOR FURTHER INFORMATION CONTACT: Nancy Joyner, Mass Media Bureau, (202) 418-2180.

SUPPLEMENTARY INFORMATION: This is a synopsis of the Commission's Report and Order, MM Docket No. 99-114, adopted June 21, 2000, and released June 30, 2000. The full text of this Commission decision is available for inspection and copying during normal business hours in the FCC's Reference Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Television and DTV broadcasting.

Part 73 of title 47 of the Code of Federal Regulations is amended as follows:

PART 73—[AMENDED]

1. The authority citation for part 73 reads as follows:

Authority: 47 U.S.C. 154, 303, 334, 336.

§ 73.606 [Amended]

2. Section 73.606(b), the Table of TV Allotments under Arizona, is amended by removing Lake Havasu City, Channel 34+.

3. Section 73.606(b), the Table of TV Allotments under Nevada, is amended by adding Laughlin, Channel 34+.

§ 73.622 [Amended]

4. Section 73.622(b), the Table of DTV Allotments under Arizona, is amended by removing Lake Havasu City, Channel 32.

5. Section 73.622(b), the Table of DTV Allotments under Nevada, is amended by adding Laughlin, Channel 32.

Federal Communications Commission.
John A. Karousos,
Chief, Allocations Branch, Policy and Rules Division, Mass Media Bureau.

[FR Doc. 00-18055 Filed 7-14-00; 8:45 am]

BILLING CODE 6712-01-P